DEPARTMENT OF COMMERCE

National Institute of Standards and Technology

Notice of Inventions Available for Licensing

AGENCY: National Institute of Standards and Technology, Commerce.

ACTION: Notice of Inventions Available for Licensing.

SUMMARY: The inventions listed below are owned in whole or part by the U.S. Government, as represented by the Secretary of Commerce. The U.S. Government's interest in these inventions is available for licensing in accordance with 35 U.S.C. 207 and 37 CFR Part 404 to achieve expeditious commercialization of results of federally funded research and development.

FOR FURTHER INFORMATION CONTACT: Technical and licensing information on these inventions may be obtained by writing to: National Institute of Standards and Technology, Office of Technology Partnerships, Attn: Mary Clague, Building 222, Room A240, Gaithersburg, MD 20899. Information is also available via telephone: 301-975-4188, fax 301-975-3482, or e-mail: mary.clague@nist.gov. Any request for information should include the NIST Docket number and title for the invention as indicated below.

SUPPLEMENTARY INFORMATION: NIST may enter into a Cooperative Research and Development Agreement (“CRADA”) with the licensee to perform further research on the inventions for purposes of commercialization. The inventions available for licensing are:

[NIST Docket Number: 00-013US]

Title: Mode-Locked Pulsed Laser System and Method.

Abstract: The invention is a system and method for stabilizing the carrier-envelope phase of the pulses emitted by a femtosecond mode-locked laser by using the powerful tools of frequency-domain laser stabilization. Control of the pulse-to-pulse carrier-envelope phases was confirmed using temporal cross correlation. This phase stabilization locks the absolute frequencies emitted by the laser, which is used to perform absolute optical frequency measurements that were directly referenced to a stable microwave clock.

[NIST Docket Number: 01-010US]

Title: Multistage Synchronization of Pulsed Radiation Sources.

Abstract: The invention is jointly owned by the Department of Commerce and University of Colorado. The ability to synchronize a passively-mode locked laser to an external reference, or to a second laser, has many applications. Previous work synchronizing two mode-locked ti:sapphire lasers has demonstrated timing jitters of at best a few hundred femtoseconds. Since it is now routinely possible to generate pulses with duration < 20 fs, improved techniques would make it possible to take full advantages of the available time resolution. This invention would allow to rigorously and robustly synchronize transform-limited pulse trains from separate mode-locked lasers with a timing jitter of < 15 fs.

[NIST Docket Number: 01-030US]

Title: Minimizing Spatial-Dispersion-Induced Birefringence.

Abstract: The invention concerns a method to eliminate or reduce the intrinsic birefringence in cubic crystals made from Group II fluorides.

[NIST Docket Number: 03-003US]

Title: High Spectral Purity Microwave Oscillator Design Using Air-Dielectric Cavity.

Abstract: The invention is jointly owned by the Department of Commerce and Total Frequency Inc. A high spectral purity microwave oscillator is provided. The oscillator uses an air-dielectric cavity and employs the known carrier-suppression technique. In one embodiment, the oscillator employs a high-Q cavity to self-sustain an oscillating sign formed by feeding back into its input a power-amplified output signal of the cavity in which residual phase noise in the amplifier stages is suppressed. A bandpass filter selects the cavity mode. Another embodiment suppresses the noise of a voltage-controlled oscillator whose frequency and power-amplified output interrogates the cavity mode.

[NIST Docket Number: 04-009US]

Title: Zig-Zag Shape Biased Anisotropic Magneto-Resistive Sensor.

Abstract: A magnetoresistive sensing apparatus is disclosed, comprising a magnetic film having a zig-zag shaped structure, a central axis, and a magnetization associated with the magnetic film, wherein the zig-zag shaped structure biases the magnetization direction alternately at positive and negative angles thereof, thereby permitting the magnetoresistive sensing apparatus to be sensitive to a magnetic field parallel to the axis of the magnetoresistive sensing apparatus and insensitive to magnetic fields perpendicular to the axis.

[NIST Docket Number: 04-017US]

Title: Doped Gd5Ge2Si2 Compounds and Methods for Reducing Hysteresis Losses in Gd5Ge2Si2 Compound.

Abstract: The invention provides an effective method for greatly reducing the large hysteresis losses that have been observed in the Gd5Ge2Si2 magnetic refrigerant compound in the 270-320 K temperature range. The method consists of alloying the compound with a very small amount of either iron or other silicide-forming metal additive, such as manganese, cobalt, copper, or gallium. This small metal addition has the effect of reducing the large hysteretic losses by more than 90 percent and in some cases to nearly 100 percent.

[NIST Docket Number: 05-014US]

Title: System and Method for Holographic Optic Trap Bonding.

Abstract: The invention is jointly owned by the Department of Commerce and New York University. The invention is a method for bonding two or more objects using nanometer-scale to micrometer-scale adhesive particles manipulated and cured by optical tweezers, including holographic optical tweezers.

[NIST Docket Number: 05-015US]

Title: The Use of Adenine as a Method for Controlled Immobilization of Nucleic Acids and Their Analogs on Gold Surfaces.

Abstract: The invention is jointly owned by the Department of Commerce, Naval Research Laboratory, and University of Maryland. The invention provides for attaching nucleic acids to a surface at a controlled grafting density in a controlled conformation by contacting an immobilization solution of nucleic acids containing at least one block of adenine nucleotides to a surface for a sufficient period of time to allow attachment to the surface.

[NIST Docket Number: 05-018US]

Title: Mounting System for Optical Frequency Reference Cavities.

Abstract: The invention is jointly owned by the Department of Commerce and University of Colorado. A technique for reducing the vibration sensitivity of laser-stabilizing optical reference cavities is based upon an improved design and mounting method for the 5 cavity, wherein the cavity is mounted vertically. It is suspended at one plane, around the spacer cylinder, equidistant from the mirror ends of the cavity. The suspension element is a collar of an extremely low thermal expansion coefficient material, which surrounds the spacer cylinder and contacts it uniformly. Once the collar has been properly located, it is cemented in place so that the spacer cylinder 10 is uniformly supported and does not have to be squeezed at all. The collar also includes a number of cavities partially bored into its lower flat surface, around the axial bore. These cavities are support points, into which mounting base pins will be inserted. Hence the collar is supported at a minimum of three points.

[NIST Docket Number: 05-019US]

Title: Real Time, Active Picometer-Scale Alignment, Stabilization, and Registration in One or More Dimensions.

Abstract: The invention is jointly owned by the Department of Commerce and University of Colorado. The invention presents a widely applicable technique which enables two (or more) mechanically independent structures whose respective positions in three dimensional space can be maintained with sub-nanometer precision for long (>100 s) periods of time. The method is based on the scattering of laser light by one (or more) fiducial marks. One mark is coupled to each structure to be positioned, except in the case where a lens is one of the structures to be stabilized. The scattered light is collected in a photo-sensitive device which enables real-time high-bandwidth position-sensing of each structure. The method requires one of the structures to be mounted onto a precision (e.g., piezoelectrc) 2D or 3D translational stage. Signals generated by the scattered light field are used in a feedback loop to modulate the stage position.

[NIST Docket Number: 07-009]

Title: A New Approach to Contacting Nanowire Arrays Using Nanoparticles.

Abstract: The invention is jointly owned by the Department of Commerce and University of Maryland. A new approach towards electrically contacting the top of an aligned nanowire or nanotube array using a conductive nanoparticle film has been developed. Conducting nanoparticles are generated, charged and deposited onto the sample containing the nanowire or nanotube array within an electrostatic precipitator. The electric field enhancement from the tips of the nanowires (or nanotubes) is utilized to attract charged nanoparticles exclusively onto the top of the array. This approach is a non-destructive, generic scheme that may be extended to any aligned nanowire or nanotube array.

[NIST Docket Number: 07-011]

Title: Thermometer Based On Dielectric Electromagnetic Resonators.

Abstract: The invention provides a new and innovative sapphire whispering gallery thermometer (SWGT) that is very robust and resistant to mechanical shock. The intrinsic frequency temperature dependence of the synthetic sapphire permittivity, coupled with the ease of locating the resonant frequency of a high-Q resonator, allows for the use of a whispering gallery mode resonator as a thermometer rather than as a frequency source. The temporal stability of sapphire as the thermometry material provides excellent long-term thermometric reproducibility. Temperature sensitivity and stability of response, as exhibited by measurement uncertainty determination, of less than 10 mK have been demonstrated.

[NIST Docket Number: 07-012US]

Title: Length Separation of Carbon Nanotubes by Centrifugation in a Dense Liquid.

Abstract: The invention provides a method for separating carbon nanotubes by length. The processes involve forming highly dispersed systems of the nanotubes followed by creating an array of layers in a centrifugation vessel.

[NIST Docket Number: 07-013US]

Title: Microfluidic Passive Sorting and Storage of Liquid Plugs Using Capillary Force.

Abstract: A three-dimensional microfluidic device for passive sorting and storing of liquid plugs is provided with homogeneous surfaces from the exposure of a photopolymer through binary masking motifs, i.e., arrays of opaque pixels on a transparency mask. The device includes sub-millimeter three-dimensional relief microstructures to aid in the channeling of fluids. The microstructures have topographically modulated features smaller than 100 micrometers.

[NIST Docket Number: 07-014US]

Title: Fabrication Method of Topographically Modulated Microstructures Using Pattern Homogenization With UV Light.

Abstract: The invention consists of a photolithographic technique for the fabrication of microstructures with arbitrary topography, which utilizes UV light and a binary transparency mask designed to trigger a homogenization effect on a photopolymer.

Dated: September 4, 2008.
Richard F. Kayser,
Chief Scientist.

[FR Doc. E8-21155 Filed 9-10-08; 8:45 am]

BILLING CODE 3510-13-P